DEPARTMENT OF EDUCATION

[Docket ID ED-2023-FSA-0135]

Privacy Act of 1974; Matching Program

AGENCY: Federal Student Aid, U.S. Department of Education.

ACTION: Notice of a new matching program.

SUMMARY: This matching program will assist the U.S. Department of Education (Department or ED) in its obligation to ensure that borrowers who either owe balances on or who have had any of loans made under title IV of the Higher Education Act of 1965, as amended (HEA) written off due to default for the Federal Perkins Loan Program, the William D. Ford Federal Direct Loan Program, the Federal Family Education Loan (FFEL) Program, or the Federal Insured Student Loan (FISL) Program or with Teacher Education Assistance for College and Higher Education (TEACH) Grant service obligations (referred to collectively herein as “title IV loans”) more efficiently and effectively are able to obtain Total and Permanent Disability (TPD) discharges of their title IV loans.

DATES: Submit your comments on the proposed re-establishment of the matching program on or before November 29, 2023.

The matching program will become effective on the later of the following two dates: (1) December 1, 2023, or (2) 30 days after the publication of this notice, on October 30, 2023, unless comments have been received from interested members of the public requiring modification and republication of the notice. The matching program will continue for 18 months after the effective date and may be renewed for up to an additional 12 months if, within 3 months prior to the expiration of the 18 months, the respective Data Integrity Boards of ED and the U.S. Department of Veterans Affairs (VA) determine that the conditions specified in 5 U.S.C. 552a(o)(2)(D) have been met.

ADDRESSES: Comments must be submitted via the Federal eRulemaking Portal at regulations.gov. However, if you require an accommodation or cannot otherwise submit your comments via regulations.gov, please contact the program contact person listed under FOR FURTHER INFORMATION CONTACT. The Department will not accept comments submitted by fax or by email, or comments submitted after the comment period. To ensure that the Department does not receive duplicate copies, please submit your comments only once. In addition, please include the Docket ID at the top of your comments.

Federal eRulemaking Portal: Go to www.regulations.gov to submit your comments electronically. Information on using Regulations.gov, including instructions for accessing agency documents, submitting comments, and viewing the docket, is available on the site under the “FAQ” tab.

Privacy Note: The Department's policy is to make all comments received from members of the public available for public viewing in their entirety on the Federal eRulemaking Portal at www.regulations.gov. Therefore, commenters should be careful to include in their comments only information that they wish to make publicly available.

FOR FURTHER INFORMATION CONTACT: Brenda Vigna, Division Chief, Program Contract Management Group, Federal Student Aid, U.S. Department of Education, 830 First Street NE, Washington, DC 20202-5320. Telephone: (202) 567-1931.

If you use a telecommunications device for the deaf (TDD) or a text telephone (TTY), you may call the Federal Relay Service (FRS), toll-free, at 1-800-877-8339.

SUPPLEMENTARY INFORMATION: In accordance with the Privacy Act of 1974, as amended (Privacy Act) (5 U.S.C. 552a); Office of Management and Budget (OMB) Final Guidance Interpreting the Provisions of Public Law 100-503, the Computer Matching and Privacy Protection Act of 1988, published in the Federal Register on June 19, 1989 (54 FR 25818); and OMB Circular No. A-108, notice is hereby provided of the re-establishment of the matching program between the Department and VA.

Participating Agencies

The U.S. Department of Education and the U.S. Department of Veterans Affairs.

Authority for Conducting the Matching Program

The Department's legal authority to enter into the matching program and to disclose information thereunder is sections 420N(c), 437(a)(1), 455(a)(1), and 464(c)(1)(F)(ii & iii) of the HEA (20 U.S.C. 1070g-2(c), 1087(a)(1), 1087e(a)(1), and 1087dd(c)(1)(F)(ii & iii)). VA's legal authority to enter into this matching program is 38 U.S. Code § 5106.

Purpose(s)

This matching program will assist the Department in its obligation to ensure that borrowers of title IV loans more efficiently and effectively are able to obtain TPD discharge of their title IV loans. The Department will proactively send notices to borrowers with title IV loans who VA has designated as (1) having a service-connected disability rating that is 100 percent disabling, or (2) being totally disabled based on an individual unemployability rating, informing them that the Department will discharge the borrower's title IV loans no earlier than 61 days after the date that the Department sends the notification to the borrower, unless the borrower chooses to have their title IV loans discharged earlier by contacting ED or chooses to opt out of the TPD discharge within 60 days from the date that the Department sends the notification to the borrower. The Department's notices also will inform these borrowers that the Department has accepted information obtained from the VA in lieu of the borrower's submission of a VA Statement and the borrower's TPD loan discharge application, thereby simplifying the TPD discharge process for borrowers.

Categories of Individuals

This matching program covers veterans whom VA has designated as having a service-connected disability rating that is 100 percent disabling or being totally disabled based on an individual unemployability rating, as described in 38 CFR 3.4(b) and 3.340, and who have title IV loans (as defined above).

Categories of Records

This matching program covers the following records on the aforementioned individuals: the name (first, middle, and last), date of birth (DOB), and Social Security number (SSN), the 100% disabling service-connected disability rating or the individuals unemployability rating, and the disability determination date.

System(s) of Records

VA will use the VA system of records entitled “Compensation, Pension, Education, and Vocational Rehabilitation and Employment Records—VA” (58VA21/22/28), last published in full in the Federal Register on November 8, 2021 (86 FR 61858). VA has determined that routine use 39 in the foregoing system of records is compatible with the purpose for which the information is collected and contains appropriate Privacy Act disclosure authority.

The Department will match information obtained from the VA with Department records maintained in the Department's system of records entitled “National Student Loan Data System (NSLDS)” (18-11-06). The NSLDS system of records notice was last published in full in the Federal Register on June 28, 2023 (88 FR 41934).

The Department will also maintain matched information obtained from VA in the Department's system of records entitled “Common Services for Borrowers (CSB) (18-11-16).” The CSB system of records notice was last published in full in the Federal Register on July 27, 2023 (88 FR 48449).

Accessible Format: By request to Lisa Tessitore, Program Operations Specialist, Federal Student Aid, U.S. Department of Education, 830 First Street NE, Washington, DC 20202-5320, telephone: (202) 377-3249, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-23855 Filed 10-27-23; 8:45 am]

BILLING CODE 4000-01-P